DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Mariner Opinions of the Right Whale Mandatory Ship Reporting System.

OMB Control Number: 0648-xxxx.

Form Number(s): None.

Type of Request: Regular (request for a new information collection).

Number of Respondents:

Average Hours per Response:

Burden Hours:

Needs and Uses: This request is for a new information collection.

The North Atlantic right whale (Eubalaena glacialis) is an endangered marine mammal found primarily in waters off the northeastern coast of the United States to Canada. Fatal collisions with large ships are the primary threat to the recovery of this species. In 1998 the United States proposed to the International Maritime Organization (IMO) the establishment of two Mandatory Ship Reporting (MSR) systems in key right whale habitat areas. Under the proposed MSR all vessels 300 gross tons or greater are required to send a message to a shore-based station when entering either of two prescribed habitat areas. The IMO endorsed the proposal and the MSR systems were established in July 1999. Each reporting ship is required to provide vessel name, call sign, course, speed, location, destination, and route (e.g., waypoints). An automatically-generated message is sent directly to the reporting vessel that includes information on right whale locations and procedural guidance to help prevent vessel/whale collisions; mariners are also informed about additional regulations established to protect whales from vessel strikes. The two-way exchange is mediated by satellite-linked communications systems.

Although the program has been in effect for over 15 years, the U.S. Government has not assessed the role, if any, that the MSR has in reducing ship collisions with right whales. In addition, mariners have not been polled to assess possible difficulties involved in the reporting itself. The goal of this information collection is to determine if (a) the reporting procedures are adequately clear to the mariner; (b) the reporting itself is onerous or unwieldy (e.g., it may interfere with other vessel operations); and (c) mariners use the information being sent to them and if so, how it is used to avoid collisions with North Atlantic right whales.

Affected Public: Individuals or households.

Frequency: One time.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Sarah Brabson,
NOAA PRA Clearance Officer.

[FR Doc. 2015-06219 Filed 3-17-15; 8:45 am]

BILLING CODE 3510-22-P